DEPARTMENT OF HEALTH AND HUMAN SERVICES

Centers for Disease Control and Prevention

Advisory Committee on Immunization Practices: Meeting

In accordance with section 10(a)(2) of the Federal Advisory Committee Act (Pub. L. 92-463), the Centers for Disease Control and Prevention (CDC) announce the following Federal Committee meeting.

Correction: This notice was published in the Federal Register on January 19, 2006, volume 71, number 12, page 3096-3097. “Additional Information” has been added.

Name: Advisory Committee on Immunization Practices (ACIP).

Times and Dates: 8 a.m.-6:15 p.m., February 21, 2006. 8 a.m.-5 p.m., February 22, 2006.

Place: Centers for Disease Control and Prevention, 1600 Clifton Road, NE., Building 19, Room 232, Atlanta, Georgia 30333.

Additional Information: In order to expedite the security clearance process at the CDC Clifton Road campus, all attendees at the ACIP meeting are now required to register on-line at http://www.cdc.gov/nip/acip, which can be found under the “Upcoming Meetings” tab. Please be sure to complete all of the required fields before submitting your registration.

All non-US citizens who have not pre-registered by January 25, 2006 will not be allowed access to the campus, and will not be allowed to register on site. All non-US citizens are required to complete the “Access Request Form” in addition to registering on line. This form can be obtained by contacting Demetria Gardner at (404) 639-8836 and should be e-mailed directly to her upon completion at dgardner@cdc.gov.

Contact Person for More Information: Demetria Gardner, Epidemiology and Surveillance Division, National Immunization Program, CDC, 1600 Clifton Road, NE., (E-61), Atlanta, Georgia 30333, telephone 404/639-8836, fax 404/639-8616.

The Director, Management Analysis and Services Office, has been delegated the authority to sign Federal Register notices pertaining to announcements of meetings and other committee management activities for CDC and the Agency for Toxic Substances and Disease Registry.

Dated: January 24, 2006.
Alvin Hall,
Director, Management Analysis and Services Office Centers for Disease Control and Prevention.

[FR Doc. E6-1095 Filed 1-27-06; 8:45 am]

BILLING CODE 4163-18-P